DEPARTMENT OF THE TREASURY

Submission for OMB Review; Comment Request

November 15, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before December 21, 2000 to be assured of consideration.

Internal Revenue Service (IRS)

OMB Number: 1545-1143.

Form Number: IRS Form 706-GS(D-1).

Type of Review: Extension.

Title: Notification of Distribution From a Generation-Skipping Trust.

Description: Form 706-GS(D-1) is used by trustees to notify the IRS and distributees of information needed by distributees to compute the Federal GST tax imposed by Internal Revenue Code (IRC) section 2601. IRS uses the information to enforce this tax and to verify that the tax has been properly computed.

Respondents: Individuals or households.

Estimated Number of Respondents/Recordkeepers: 80,000.

Estimated Burden Hours Per Recordkeeper:

Recordkeeping—1 hr., 33 min.

Learning about the law or the form—1 hr., 48 min.

Preparing the form—42 min.

Copying, assembling, and sending the form to the IRS—20 min.

Frequency of Response: Annually.

Estimated Total Reporting/Recordkeeping Burden: 348,800 hours.

OMB Number: 1545-1447.

Regulation Project Number: CO-46-94 Final.

Type of Review: Extension.

Title: Losses on Small Business Stock.

Description: Records are required by the Internal Revenue Service to verify that the taxpayer is entitled to a section 1244 loss. The records will be used to determine whether the stock qualifies as section 1244 stock.

Respondents: Business or other for-profit, Individuals or households.

Estimated Number of Recordkeepers: 10,000.

Estimated Burden Hours Per Recordkeeper: 12 minutes.

Estimated Total Recordkeeping Burden: 2,000 hours.

Clearance Officer: Garrick Shear, Internal Revenue Service, Room 5244, 1111 Constitution Avenue, NW, Washington, DC 20224.

OMB Reviewer: Alexander T. Hunt, (202) 395-7860, Office of Management and Budget, Room 10202, New Executive Office Building, Washington, DC 20503.

Lois K. Holland,
Departmental Reports Management Officer.

[FR Doc. 00-29775 Filed 11-20-00; 8:45 am]

BILLING CODE 4830-01-P